DEPARTMENT OF ENERGY

Federal Energy Regulatory Commission

Combined Notice of Filings #1

Take notice that the Commission received the following electric corporate filings:

Docket Numbers: EC23-138-000.

Applicants: Montour, LLC, Talen Conemaugh LLC, Talen Keystone LLC.

Description: Joint Application for Authorization Under Section 203 of the Federal Power Act of Montour, LLC, et al.

Filed Date: 9/28/23.

Accession Number: 20230928-5147.

Comment Date: 5 p.m. ET 10/19/23.

Docket Numbers: EC23-139-000.

Applicants: Elk Wind Energy LLC, Bethel Wind Energy LLC, Zephyr Wind, LLC.

Description: Joint Application for Authorization Under Section 203 of the Federal Power Act of Elk Wind Energy LLC, et al.

Filed Date: 9/28/23.

Accession Number: 20230928-5154.

Comment Date: 5 p.m. ET 10/19/23.

Take notice that the Commission received the following exempt wholesale generator filings:

Docket Numbers: EG23-309-000.

Applicants: MS Solar 6, LLC.

Description: MS Solar 6, LLC submits Notice of Self-Certification of Exempt Wholesale Generator Status.

Filed Date: 9/29/23.

Accession Number: 20230929-5004.

Comment Date: 5 p.m. ET 10/20/23.

Take notice that the Commission received the following Complaints and Compliance filings in EL Dockets:

Docket Numbers: EL23-104-000.

Applicants: Enerwise Global Technologies, LLC v. PJM Interconnection, L.L.C.

Description: Complaint of Enerwise Global Technologies, LLC d/b/a CPower vs. PJM Interconnection, L.L.C.

Filed Date: 9/28/23.

Accession Number: 20230928-5025.

Comment Date: 5 p.m. ET 10/18/23.

Docket Numbers: EL23-105-000.

Applicants: The Office of the Ohio Consumers' Counsel v. PJM Interconnection, L.L.C., et al.

Description: Complaint of The Office of the Ohio Consumers' Counsel v. PJM Interconnection, L.L.C., et al.

Filed Date: 9/28/23.

Accession Number: 20230928-5134.

Comment Date: 5 p.m. ET 10/18/23.

Docket Numbers: EL23-106-000.

Applicants: Summit Ridge Energy, LLC and Osaka Gas USA Corporation.

Description: Petition for Declaratory Order of Summit Ridge Energy, LLC and Osaka Gas USA Corporation.

Filed Date: 9/28/23.

Accession Number: 20230928-5174.

Comment Date: 5 p.m. ET 10/30/23.

Take notice that the Commission received the following electric rate filings:

Docket Numbers: ER20-714-005.

Applicants: Whitetail Solar 1, LLC.

Description: Compliance filing: Revised Rate Schedule FERC No. 1 to be effective 9/6/2023.

Filed Date: 9/29/23.

Accession Number: 20230929-5174.

Comment Date: 5 p.m. ET 10/20/23.

Docket Numbers: ER20-1851-006.

Applicants: Whitetail Solar 3, LLC.

Description: Compliance filing: Revised Rate Schedule FERC No. 1 to be effective 9/6/2023.

Filed Date: 9/29/23.

Accession Number: 20230929-5176.

Comment Date: 5 p.m. ET 10/20/23.

Docket Numbers: ER21-936-003.

Applicants: Whitetail Solar 2, LLC.

Description: Compliance filing: Revised Rate Schedule FERC No. 1 to be effective 1/26/2021.

Filed Date: 9/29/23.

Accession Number: 20230929-5175.

Comment Date: 5 p.m. ET 10/20/23.

Docket Numbers: ER21-1633-003.

Applicants: Elk Hill Solar 2, LLC.

Description: Compliance filing: Revised Rate Schedule FERC No. 1 to be effective 4/8/2021.

Filed Date: 9/29/23.

Accession Number: 20230929-5180.

Comment Date: 5 p.m. ET 10/20/23.

Docket Numbers: ER22-2114-001.

Applicants: PPL Electric Utilities Corporation, PJM Interconnection, L.L.C.

Description: Compliance filing: East Kentucky Power Cooperative, Inc. submits tariff filing per 35: PJM TOs Notification of Effective Date for Interconnection Reforms in ER22-2114 to be effective 10/5/2023.

Filed Date: 9/29/23.

Accession Number: 20230929-5145.

Comment Date: 5 p.m. ET 10/20/23.

Docket Numbers: ER22-2359-002.

Applicants: PJM Interconnection, L.L.C.

Description: Compliance filing: Orders Nos. 881 and 881-A Compliance Filing to be effective 12/31/9998.

Filed Date: 9/29/23.

Accession Number: 20230929-5223.

Comment Date: 5 p.m. ET 10/20/23.

Docket Numbers: ER23-2374-001.

Applicants: PJM Interconnection, L.L.C.

Description: Tariff Amendment: Amendment of ISA/CSA, SA No. 6990 and 6991; Queue No. AE2-166, Docket No. ER23-2374 to be effective 9/11/2023.

Filed Date: 9/29/23.

Accession Number: 20230929-5161.

Comment Date: 5 p.m. ET 10/20/23.

Docket Numbers: ER23-2374-002.

Applicants: PJM Interconnection, L.L.C.

Description: Tariff Amendment: Response to Commission's 9/1/23 Deficiency Letter in ER23-2347 to be effective 9/11/2023.

Filed Date: 9/29/23.

Accession Number: 20230929-5252.

Comment Date: 5 p.m. ET 10/20/23.

Docket Numbers: ER23-2956-000.

Applicants: California Independent System Operator Corporation.

Description: § 205(d) Rate Filing: 2023-09-28 Tariff Amendment to Update Variable Operations and Maintenance Adders to be effective 12/31/9998.

Filed Date: 9/28/23.

Accession Number: 20230928-5150.

Comment Date: 5 p.m. ET 10/19/23.

Docket Numbers: ER23-2957-000.

Applicants: Alabama Power Company, Georgia Power Company, Mississippi Power Company.

Description: § 205(d) Rate Filing: Alabama Power Company submits tariff filing per 35.13(a)(2)(iii): Origis Development (Pelham Solar + Storage) LGIA Filing to be effective 9/22/2023.

Filed Date: 9/29/23.

Accession Number: 20230929-5010.

Comment Date: 5 p.m. ET 10/20/23.

Docket Numbers: ER23-2958-000.

Applicants: PJM Interconnection, L.L.C.

Description: § 205(d) Rate Filing: Amendment to ISA, Service Agreement No. 5995; Queue No. AD2-160/AE2-253 to be effective 11/29/2023.

Filed Date: 9/29/23.

Accession Number: 20230929-5026.

Comment Date: 5 p.m. ET 10/20/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 29, 2023.
Kimberly D. Bose,
Secretary.

[FR Doc. 2023-22212 Filed 10-4-23; 8:45 am]

BILLING CODE 6717-01-P